DEPARTMENT OF AGRICULTURE

Submission for OMB Review; Comment Request; Correction

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by August 26, 2022 will be considered. Written comments and recommendations for the proposed information collection should be submitted within 30 days of the publication of this notice on the following website www.reginfo.gov/public/do/PRAMain. Find this particular information collection by selecting “Currently under 30-day Review—Open for Public Comments” or by using the search function

An agency may not conduct or sponsor a collection of information unless the collection of information displays a currently valid OMB control number and the agency informs potential persons who are to respond to the collection of information that such persons are not required to respond to the collection of information unless it displays a currently valid OMB control number.

National Agricultural Statistics Service

Title: Agricultural Resource Management and Chemical Use Surveys—Substantive Change.

OMB Control Number: 0535-0218.

Summary of Collection: The Department of Agriculture published a document in the Federal Register on July 22, 2022, Volume 87, page 43780 concerning a request for comments for the substantive change request on the Information Collection “Agricultural Resource Management and Chemical Use Surveys” OMB control number 0535-0218. In this FRN, it was stated there was a decrease in burden due to the removal of questions from the Production Practices Report (Potatoes) that were previously requested by the USDA Office of Pest Management Policy (OPMP). The removal of questions reduced the average time per respondent from 50 to 35 minutes.

That statement needs to be corrected to state, “there is an overall increase in number of responses burden due to presurvey, initial mailings, and possible electronic mail follow-up for the ARMS Phase 2 and Vegetable Chemical Use Surveys, resulting in a new total of 109,277 hours.

There is no change to the number of respondents and frequency of responses. The burden needs to be updated from 106,015 to 109,277.

Levi S. Harrell,
Departmental Information Collection Clearance Officer.

[FR Doc. 2022-16097 Filed 7-26-22; 8:45 am]

BILLING CODE 3410-20-P